DEPARTMENT OF LABOR

Employment and Training Administration

Investigations Regarding Certifications of Eligibility To Apply For Worker Adjustment Assistance

AGENCY: Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 19, 2004.

Interested persons are invited to submit written comments regarding the subject matter of the investigations to the Director, Division of Trade Adjustment Assistance, at the address shown below, not later than July 19, 2004.

The petitions filed in this case are available for inspection at the Office of the Director, Division of Trade Adjustment Assistance, Employment and Training Administration, U.S. Department of Labor, Room C-5311, 200 Constitution Avenue, NW., Washington, DC 20210.

Signed at Washington, DC., this 30th day of June, 2004.
Timothy Sullivan,
Director, Division of Trade Adjustment Assistance.

Appendix
[Petitions Instituted Between 06/21/2004 and 06/25/2004]
TA-W | Subject firm (petitioners) | Location | Date of institution | Date of petition
55,108 | Cosom Sporting Goods (NJ) | Thorofare, NJ | 06/21/2004 | 06/21/2004
55,109 | Ericson Manufcturing Co. (Comp) | Willoughby, OH | 06/21/2004 | 06/17/2004
55,110 | Model Die Casting, Inc. (Comp) | Carson City, NV | 06/21/2004 | 06/18/2004
55,111 | Cemco, Inc. (Comp) | Whitesburg, TN | 06/21/2004 | 06/18/2004
55,112 | SCP Global Technologies (Comp) | Boise, ID | 06/21/2004 | 06/18/2004
55,113 | Veltri Metal Products (USWA) | New Baltimore, MI | 06/21/2004 | 06/07/2004
55,114 | M.A. Moslow and Brothers, Inc. (IAMAW) | Buffalo, NY | 06/21/2004 | 06/04/2004
55,115 | Weyerhaeuser Co. (GCU) | Portland, OR | 06/21/2004 | 06/20/2004
55,116 | Southern NJ Steel (NJ) | Vineland, NJ | 06/21/2004 | 06/21/2004
55,117 | Baush and Lomb (SIWU) | Manchester, MO | 06/21/2004 | 06/15/2004
55,118 | Frick Gallagher Mfg. (Comp) | Wellston, OH | 06/22/2004 | 06/18/2004
55,119 | Allegheny Cast Metals Inc. (Comp) | Titusville, PA | 06/23/2004 | 06/11/2004
55,120 | Agfa Corporation (Comp) | Wilmington, MA | 06/23/2004 | 06/11/2004
55,121 | Shell Information Tech., Int'l (Wkrs) | Houston, TX | 06/23/2004 | 06/11/2004
55,122 | Fasco (Wkrs) | St. Clair, MO | 06/23/2004 | 06/21/2004
55,123 | Tyco Healthcare Retail Group (Comp) | Waco, TX | 06/23/2004 | 06/09/2004
55,124 | General Elec. Capital Auto Financial (Wkrs) | Depew, NY | 06/23/2004 | 06/09/2004
55,125 | Volt (Wkrs) | Redmon, WA | 06/23/2004 | 06/17/2004
55,126 | Walt Diskey Television Int'l Latin Amer. (NPW) | Coral Gables, FL | 06/23/2004 | 06/16/2004
55,127 | Frybrant, Inc. (Comp) | Frederick, OK | 06/23/2004 | 06/14/2004
55,128 | Hoover Co. (The) (Comp) | El Paso, TX | 06/23/2004 | 06/07/2004
55,129 | Fashion Elite, Inc. (Wkrs) | San Francisco, CA | 06/23/2004 | 06/16/2004
55,130 | Lee Middleton Original (Comp) | Belpre, OH | 06/23/2004 | 06/22/2004
55,131 | Vaughan Furniture Co. (Comp) | Stuart, VA | 06/23/2004 | 06/18/2004
55,132 | Grede Foundries, Inc. (Wkrs) | Kingsfold, MI | 06/23/2004 | 06/10/2004
55,133 | HE Microwave Corp.(IAMAW) | Tucson, AZ | 06/23/2004 | 06/17/2004
55,134 | Sara Lee Underwear (Comp) | Asheboro, NC | 06/23/2004 | 06/22/2004
55,135 | Envirovac (Wkrs) | Savannah, GA | 06/23/2004 | 05/28/2004
55,136 | ITW Auto-Sleeve (Wkrs) | Twinsburg, OH | 06/23/2004 | 06/11/2004
55,137 | Ames Screw Mach. Prod., Inc. (Comp) | Addison, IL | 06/23/2004 | 06/23/2004
55,138 | Trend Technologies, LLC (Comp) | Longmont, CO | 06/24/2004 | 06/24/2004
55,139 | Hamrick Industries, Inc. (Wkrs) | Gaffney, SC | 06/24/2004 | 06/24/2004
55,140 | A.O Smith E.P.C. (Comp) | Mebane, NC | 06/24/2004 | 06/23/2004
55,141 | Vardi Stone House, Inc. (Comp) | Long Island, NY | 06/24/2004 | 06/09/2004
55,142 | Riddle Fabrics, Inc. (Wkrs) | Kings Mtn., NC | 06/24/2004 | 05/18/2004
55,143 | Oxford Ind., Inc. (Comp) | Walhalla, SC | 06/24/2004 | 06/14/2004
55,144 | Boeing Aircraft Co. (IAMAW) | Wichita, KS | 06/25/2004 | 06/21/2004
55,145 | Springs Industries, Inc. (Wkrs) | Lyman, SC | 06/25/2004 | 06/21/2004
55,146 | Hekman Furniture Co. (Wkrs) | Lexington, NC | 06/25/2004 | 06/10/2004
55,147 | BASF Corporation (LA) | Geismar, LA | 06/25/2004 | 06/18/2004

[FR Doc. 04-15302 Filed 7-6-04; 8:45 am]

BILLING CODE 4510-30-M